DEPARTMENT OF VETERANS AFFAIRS

VBA/VHA Mental Health Summit

AGENCY: Department of Veterans Affairs.

ACTION: Notice of meeting.

SUMMARY: The Department of Veterans Affairs (VA) will hold the Veterans Benefits Administration (VBA)/Veterans Health Administration (VHA) Mental Health Summit to capture current medical science information and economic earnings loss data from presentations made by subject matter experts. VA plans to use this information to update the sections of VA's Schedule for Rating Disabilities (VASRD) that pertain to mental disorders. See 38 CFR 4.125-4.130. Specifically, diagnostic code descriptors and percentage ratings will be discussed, as well as whether to add or delete diagnostic codes from the mental health portion of VASRD. Contingent upon available capacity and time, individuals wishing to make oral statements will be accommodated on a first-come, first-served basis.

DATES: The meeting will be held on Thursday and Friday, January 28-29, 2010, from 8 a.m. to 5 p.m. each day.

ADDRESSES: The meeting will be held at the Capital Hilton, located at 1001 16th Street, NW., in Washington, DC.

FOR FURTHER INFORMATION CONTACT: Ms. Jennifer Hesch, VASRD Coordinator, Compensation and Pension Service, Department of Veterans Affairs, 810 Vermont Avenue, NW., Washington, DC 20420. Anyone wishing to attend the meeting or seeking additional information may also contact Ms. Hesch at (202) 461-9688 or Jennifer.Hesch@va.gov, or Mr. Kniffen at (202) 461-9725 or Thomas.Kniffen@va.gov.

Dated: December 18, 2009.
John R. Gingrich,
Chief of Staff, Department of Veterans Affairs.

[FR Doc. E9-30719 Filed 12-24-09; 8:45 am]

BILLING CODE 8320-01-P